ENVIRONMENTAL PROTECTION AGENCY

[FRL-10015-95-Region 1]

2020 Annual Meeting of the Ozone Transport Commission

AGENCY: Environmental Protection Agency (EPA).

ACTION: Notice; meeting.

SUMMARY: The United States Environmental Protection Agency (EPA) is announcing the 2020 Annual Meeting of the Ozone Transport Commission (OTC). The meeting agenda will include topics regarding reducing ground-level ozone precursors.

DATES: The meeting will be held on November 18, 2020 starting at 9 a.m. and ending at noon.

ADDRESSES: Virtual meeting. Further information on the details for the virtual public meeting will be available at http://www.otcair.org.

FOR FURTHER INFORMATION CONTACT:

For documents and press inquiries contact: Ozone Transport Commission, 89 South St., Suite 602, Boston, MA 02111; (617) 259-2005; email: ozone@otcair.org; website: http://www.otcair.org.

For registration: To register for the virtual meeting, please use the online registration form available at http://www.otcair.org, or contact the OTC at (617) 259-2005 or by email at ozone@otcair.org.

SUPPLEMENTARY INFORMATION: The Clean Air Act Amendments of 1990 contain Section 184 provisions for the Control of Interstate Ozone Air Pollution. Section 184(a) establishes an Ozone Transport Region (OTR) comprised of the States of Connecticut, Delaware, Maine, Maryland, Massachusetts, New Hampshire, New Jersey, New York, Pennsylvania, Rhode Island, Vermont, parts of Virginia and the District of Columbia. The purpose of the OTC is to address ground-level ozone formation, transport, and control within the OTR.

Type of Meeting: Open.

Agenda: Copies of the final agenda will be available from the OTC office (617) 259-2005; by email: ozone@otcair.org or via the OTC website at http://www.otcair.org.

Dated: October 14, 2020.
Dennis Deziel,
Regional Administrator, EPA Region 1.

[FR Doc. 2020-23122 Filed 10-19-20; 8:45 am]

BILLING CODE 6560-50-P